DEPARTMENT OF AGRICULTURE

Rural Utilities Service

Announcement of Grant and Loan Application Deadlines and Funding Levels

AGENCY: Rural Utilities Service, USDA.

ACTION: Notice of funding availability and solicitation of applications.

SUMMARY: The Rural Utilities Service (RUS) announces the Fiscal Year (FY) 2005 funding levels available for its Distance Learning and Telemedicine (DLT) grant, combination loan-grant and loan programs. In addition, RUS announces the minimum and maximum amounts for DLT combination loan-grants and loans applicable for the fiscal year and the solicitation of combination loan-grant and loan applications.

DATES: You may submit completed applications for combination loan-grants and loans at any time.

Reminder of competitive grant application deadline: applications must be mailed, shipped or submitted electronically through Grants.gov no later than February 1, 2005, to be eligible for FY 2005 grant funding. The Notice of Solicitation of Applications published in the Federal Register (69 FR 70217, December 3, 2004), provides information on resources and requirements for the competitive grant program.

ADDRESSES: You may obtain application guides and materials for all DLT programs via the Internet at the DLT Web site: http://www.usda.gov/rus/telecom/dlt/dlt.htm. You may also request application guides and materials from RUS by contacting the DLT Program at (202) 720-0413.

Submit completed paper applications for grants, combination loan-grants or loans to the Rural Utilities Service, U.S. Department of Agriculture, 1400 Independence Ave., SW., Room 2845, STOP 1550, Washington, DC 20250-1550. Applications should be marked “Attention: Director, Advanced Services Division, Telecommunications Program.”

Submit electronic grant or combination loan-grant applications at http://www.grants.gov (Grants.gov), following the instructions you find on that Web site.

FOR FURTHER INFORMATION CONTACT: Orren E. Cameron, III, Director, Advanced Services Division, Rural Utilities Service, U.S. Department of Agriculture, telephone: (202) 720-0413, fax: (202) 720-1051.

SUPPLEMENTARY INFORMATION:

Overview

Federal Agency: Rural Utilities Service (RUS).

Funding Opportunity Title: Distance Learning and Telemedicine Loans and Grants.

Announcement Type: Funding Level Announcement, and Solicitation of Applications.

Catalog of Federal Domestic Assistance (CFDA) Number: 10.855.

Dates: You may submit completed applications for combination loan-grants and loans at any time.

Reminder of competitive grant application deadline: applications must be mailed, shipped or submitted electronically through Grants.gov no later than February 1, 2005, to be eligible for FY 2005 grant funding. The Notice of Solicitation of Applications published in the Federal Register (69 FR 70217, December 3, 2004), provides information on resources and requirements for the competitive grant program.

Items in Supplementary Information

I. Funding Opportunity: Brief introduction to the DLT program

II. Award Information: Available funds, minimum and maximum amounts

III. Eligibility Information: Who is eligible, what kinds of projects are eligible, what criteria determine basic eligibility

IV. Application and Submission Information: Where to get application materials, what constitutes a completed application, how and where to submit applications, deadlines, items that are eligible

V. Application Review Information: Considerations and preferences, scoring criteria, review standards, selection information

VI. Award Administration Information: Award notice information, award recipient reporting requirements

VII. Agency Contacts: Web, phone, fax, email, contact name

I. Funding Opportunity

Distance learning and telemedicine loans and grants are specifically designed to provide access to education, training and health care resources for people in rural America. The Distance Learning and Telemedicine (DLT) Program (administered by the DLT Branch of the Rural Utilities Service (RUS)) funds the use of advanced telecommunications technologies to help communities meet those needs.

The grants, which are awarded through competitive process, may be used to fund telecommunications, computer networks and related advanced technologies.

Applications for loans and combination loan-grants are not competitively scored. In addition to the items listed for grants, loans and combination loan-grants may be used to fund construction of necessary transmission facilities on a technology-neutral basis. Examples of such facilities include satellite uplinks, microwave towers and associated structures, T-1 lines, DS-3 lines, and other similar facilities. Loan funds may also be used to obtain mobile units and for some building construction. Please see 7 CFR 1703, Subparts D, E, F and G for specifics.

II. Award Information

A. Available funds.

1. General. The Administrator has determined that the following amounts are available for grants, combination loan-grants and loans in FY 2005 under 7 CFR 1703.101(g).

2. Grants. $20.8 million is available for grants. Under 7 CFR 1703.124, the Administrator has determined the maximum amount of an application for a grant in FY 2005 is $500,000 and the minimum amount of a grant is $50,000. The Notice of Solicitation of Applications published in the Federal Register (69 FR 70217, December 3, 2004), provides information on resources and requirements for the competitive grant program.

3. Combination Loan-Grants.

a. $44 million is available for combination loan-grants ($40 million in loans paired with $4 million in grants, i.e., $100 loan : $10 grant ratio). Under 7 CFR 1703.133, the Administrator has determined the maximum amount of an application for a combination loan-grant in FY 2005 is $10 million and the minimum amount of a combination loan-grant is $50,000.

b. RUS will execute grant and loan documents appropriate to the project prior to any advance of funds with successful applicants.

4. Loans.

a. $9.6 million is available for loans. Under 7 CFR 1703.143, the Administrator has determined the maximum amount of an application for a loan in FY 2005 is $9.6 million and the minimum amount of a loan is $50,000.

b. Financial assistance documents. RUS will execute loan documents appropriate to the project prior to any advance of funds with successful applicants.

B. Renewal of financial assistance. DLT grants, combination loan-grants and loans cannot be renewed. Award documents specify the term of each award. Applications to extend existing projects are welcomed (grant applications must be submitted during the application window) and will be evaluated as new applications.

III. Eligibility Information

A. Who is eligible for combination loan-grants and loans? (See 7 CFR 1703.103.)

1. Only entities legally organized as one of the following are eligible for DLT financial assistance:

a. An incorporated organization or partnership,

b. An Indian tribe or tribal organization, as defined in 25 U.S.C. 450b (b) and (c),

c. A State or local unit of government,

d. A consortium, as defined in 7 CFR 1703.102, or

e. Other legal entity, including a private corporation organized on a for-profit or not-for profit basis.

2. Individuals are not eligible for DLT financial assistance directly.

3. Electric and telecommunications borrowers under the Rural Electrification Act of 1936 (7 U.S.C. 950aaa et seq.) are not eligible for combination loan-grants. They are, however, eligible for loans (see 7 CFR 1703.101(f)).

B. What are the basic eligibility requirements for a project?

1. The DLT Program is designed to flow the benefits of distance learning and telemedicine to residents of rural America (see 7 CFR 1703.103(a)(2)). Therefore, in order to be eligible, applicants must propose to use the financial assistance to:

a. Operate a rural community facility; or

b. Deliver distance learning or telemedicine services to entities that operate a rural community facility or to residents of rural areas, at rates calculated to ensure that the benefit of the financial assistance is passed through to such entities or to residents of rural areas.

2. If a loan applicant is a telecommunications or electric borrower under the Rural Electrification Act of 1936 (7 U.S.C. 901-950aa, et seq.), they may either pass the loan along to an entity that will fulfill paragraph III.B.1 of this notice; or acquire, install, extend or improve a distance learning or telemedicine facility. Please see 7 CFR 1703.101(f).

3. All projects that applicants propose to fund with RUS financial assistance must meet a minimum rurality threshold, to ensure that benefits from the projects flow to rural residents. The minimum eligibility score is 20 points. Please see 7 CFR 1703.126(a)(2) for an explanation of the rurality scoring and eligibility criterion.

a. Each application must apply the following criteria to each of its end-user sites, and hubs that are also proposed as end-user sites, in order to determine a rurality score.

b. The rurality score is the average of all end-user sites' rurality scores.

Criterion | Character | Population | DLT points
Exceptionally Rural Area | Area not within a city, village or borough | ≤5000 | 45
Rural Area | Incorporated or unincorporated area | >5000 and ≤10,000 | 30
Mid-Rural Area | Incorporated or unincorporated area | >10,000 and ≤20,000 | 15
Urban Area | Incorporated or unincorporated area | >20,000 | 0

4. Projects located in areas covered by the Coastal Barrier Resources Act (16 U.S.C. 3501 et seq.) are not eligible for any financial assistance from the DLT Program. Please see 7 CFR 1703.132(a)(5) for combination loan-grants and 7 CFR 1703.142(b)(3) for loans.

C. What are the items are required in an application? See paragraph IV.B of this notice for a discussion of the items that make up a completed application. You may also refer to 7 CFR 1703.134 for completed combination loan-grant application items, and 7 CFR 1703.144 for completed loan application items.

IV. Application and Submission Information

A. Where to get application information. The loan and combination loan-grant application guide, copies of necessary forms and samples, and the DLT Program regulation are available from these sources:

1. The Internet: http://www.usda.gov/rus/telecom/dlt/dlt.htm, or http://www.grants.gov.

2. The DLT Program of RUS for paper copies of these materials: (202) 720-0413.

B. What constitutes a completed application?

1. Detailed information on each item in the table in paragraph IV.B.6 of this notice can be found in the sections of the DLT Program regulation listed in the table, and the DLT application guide. Applicants are strongly encouraged to read and apply both the regulation and the application guide.

a. When the table refers to a narrative, it means a written statement, description or other written material prepared by the applicant, for which no form exists. RUS recognizes that each project is unique and requests narratives of varying complexity to allow applicants to fully explain their request for financial assistance.

b. When documentation is requested, it means letters, certifications, legal documents or other third party documentation that provide evidence that the applicant meets the listed requirement. For example, evidence of legal existence is sometimes proven by applicants who submit articles of incorporation. This example is not intended to limit the types of documentation that may be submitted to fulfill a requirement. DLT program regulations and the application guide provide specific guidance on each of the items in the table.

2. The DLT application guide and ancillary materials provide all necessary forms and sample worksheets.

3. While the table in paragraph IV.B.6 of this notice includes all items of a completed application for each program, RUS may ask for additional or clarifying information if the submitted item(s) do not fully address a criterion or other provision. RUS will communicate with applicants if the need for additional information arises.

4. Submit the required application items in the listed order.

5. DUNS Number. As required by the OMB, all applicants for combination loan-grants must supply a Dun and Bradstreet Data Universal Numbering System (DUNS) number when applying. The Standard Form 424 (SF-424) contains a field for you to use when supplying your DUNS number. Obtaining a DUNS number costs nothing and requires a short telephone call to Dun and Bradstreet. Please see the DLT Web site or Grants.gov for more information on how to obtain a DUNS number or how to verify your organization's number.

6. Table of Required Elements of a Completed Application, by Program
Application item | Required items by application type: Combination loan-grants (7 CFR 1703.134 and 7 CFR 1703.135) | Required items by application type: Loans (7 CFR 1703.144 and 7 CFR 1703.145)
SF-424, completely filled out (Application for Federal Assistance form) | Yes | Yes.
Executive Summary (narrative) | Yes | Yes.
Rural Calculation Table | Yes | Yes.
Budget (table or other appropriate format) | Yes | Yes.
Financial Information/Sustainability (narrative) | Yes | Yes.
Pro Forma Financial Data (documentation) | Yes | Yes.
Ability to execute a note with maturity > 1 year (documentation) | Yes | Yes.
Revenue/expense reports and balance sheet (documentation: table or other appropriate format) | Yes ¹ | Yes.¹
Income statement and balance sheet (documentation: table or other appropriate format) | Yes ² | Yes.²
Balance sheet (table or other appropriate format) for a partnership, corporation, company, other entity; or consortia of such entities (documentation) | Yes | Yes.
Property list (collateral)/adequate security (documentation) | Yes | Yes.
Depreciation schedule | Yes | Yes.
Revenue Source(s) for each hub and end-user site (documentation) | Yes | Yes.
Economic analysis of rates—if applicant proposes to provide services to another entity (documentation) | Yes | Yes.
Telecommunications System Plan (narrative & documentation; maps or diagrams, if appropriate) | Yes | Yes.
Scope of Work (narrative or other appropriate format) | Yes | Yes.
Statement of Experience (narrative 3-page, single-spaced limit) | Yes | Yes.
Certifications:
Equal Opportunity and Nondiscrimination | Yes | Yes.
Architectural Barriers | Yes | Yes.
Flood Hazard Area Precautions | Yes | Yes.
Uniform Relocation Assistance and Real Property Acquisition Policies Act of 1970 | Yes | Yes.
Drug-Free Workplace | Yes | Yes.
Debarment, Suspension, and Other Responsibility Matters—Primary Covered Transactions | Yes | Yes.
Lobbying for Contracts, Grants, Loans, and Cooperative Agreements | Yes | Yes.
Non Duplication of Services | Yes | Yes.
Environmental Impact/Historic Preservation Certification | Yes | Yes.
Environmental Impact/Historic Preservation Questionnaire | Yes ³ | Yes.³
Federal Obligations on Delinquent Debt | Yes | Yes.
Evidence of Legal Authority to Contract with the Government (documentation) | Yes | Yes.
Evidence of Legal Existence (documentation) | Yes | Yes.
Supplemental Information (if any)(narrative, documentation or other appropriate format) | Optional | Optional.
¹ For educational institutions/consortia.
² For medical institutions/consortia.
³ If project involves construction.

C. How many copies of an application are required?

1. Applications submitted on paper:

a. Submit the original application and two (2) copies to RUS.

b. Submit one (1) additional copy to the State government point of contact (if one has been designated) at the same time as you submit the application to RUS. See http://www.whitehouse.gov/omb/grants/spoc.html for an updated listing of State government points of contact or contact the DLT Program.

2. Electronically submitted applications (combination loan-grants):

a. The additional paper copies for RUS specified in 7 CFR 1703.136(b) are not necessary if you submit the application electronically through Grants.gov.

b. Submit one (1) copy to the State government point of contact (if one has been designated) at the same time as you submit the application to RUS. See http://www.whitehouse.gov/omb/grants/spoc.html for an updated listing of State government points of contact.

D. How and where to submit an application. Combination loan-grant applications may be submitted on paper or electronically. RUS cannot accept electronic loan applications at this time; please submit loan applications on paper.

1. Submitting applications on paper.

a. Address paper applications for combination loan-grants or loans to the Rural Utilities Service, U.S. Department of Agriculture, 1400 Independence Ave., SW., Room 2845, STOP 1550, Washington, DC 20250-1550. Applications should be marked “Attention: Director, Advanced Services Division, Telecommunications Program.”

b. Packages arriving at the Department of Agriculture via the USPS are irradiated, which can damage the contents. RUS encourages applicants to consider the impact of this procedure in selecting their application delivery method.

2. Electronically submitted applications (applies only to combination loan-grants).

a. Applications will not be accepted via facsimile machine transmission or electronic mail.

b. Electronic applications for combination loan-grants will be accepted if submitted through the Federal government's Grants.gov initiative at http://www.grants.gov.

c. How to use Grants.gov:

(i) Navigate your Web browser to http://www.grants.gov.

(ii) Follow the instructions on that Web site to find grant or combination loan-grant information.

(iii) Download a copy of an application package.

(iv) Complete the package off-line.

(v) Upload and submit the application via the Grants.gov Web site.

d. Grants.gov contains full instructions on all required passwords, credentialing and software.

e. If a system problem occurs or you have technical difficulties with an electronic application, please use the customer support resources available at the Grants.gov Web site.

f. Central Contractor Registry. In addition to the DUNS number now required of all grant applicants, submitting an application through Grants.gov requires that you list your organization in the Central Contractor Registry (CCR). Setting up a CCR listing (a one-time procedure with annual updates) takes up to five business days, so RUS strongly recommends that you obtain your organization's DUNS number and CCR listing well in advance of the deadline specified in this notice.

g. Credentialing and authorization of applicants. Grants.gov will also require some one-time credentialing and online authentication procedures. These procedures may take several business days to complete, further emphasizing the need for early action to complete the sign-up, credentialing and authorization procedures at Grants.gov before you submit an application at that Web site.

E. Deadlines.

1. Reminder of competitive grant application deadline: applications must be mailed, shipped or submitted electronically through Grants.gov no later than February 1, 2005, to be eligible for FY 2005 grant funding. The Notice of Solicitation of Applications published in the Federal Register (69 FR 70217, December 3, 2004), provides information on resources and requirements for the competitive grant program.

2. Applications for FY 2005 combination loan-grants (paper or electronic) and loans (paper only) may be submitted at any time.

F. Intergovernmental review. All DLT programs are subject to Executive Order 12372, “Intergovernmental Review of Federal Programs.” As stated in paragraph IV.C of this notice, a copy of a DLT combination loan-grant application or a loan application must be submitted to the State single point of contact if one has been designated. Please see http://www.whitehouse.gov/omb/grants/spoc.html to determine whether your State has a single point of contact.

G. Funding restrictions.

1. Eligible purposes.

a. End-user sites may receive financial assistance; hub sites (rural or non-rural) may also receive financial assistance if they are necessary to provide DLT services to end-user sites. Please see 7 CFR 1703.101(h).

b. To fulfill the policy goals laid out for the DLT Program in 7 CFR 1703.101, the following table lists purposes for financial assistance and whether each purpose is eligible for the assistance. Please consult the application guide and the regulations (7 CFR 1703.102 for definitions, in combination with the portions of the regulation cited in the table for each type of financial assistance) for detailed requirements for the items in the table.

| Combination loan-grants (7 CFR 1703.131 and 7 CFR 1703.132) | Loans (7 CFR 1703.141 and 7 CFR 1703.142)
Lease or purchase of eligible DLT equipment and facilities | Yes | Yes.
Acquire instructional programming | Yes | Yes.
Technical assistance, develop instructional programming, engineering or environmental studies | Yes, not to exceed 10% of the financial assistance | Yes, not to exceed 10% of the financial assistance.
Medical or education equipment or facilities necessary to the project | Yes | Yes.
Vehicles using distance learning or telemedicine technology to deliver services | Yes | Yes.
Teacher-student links located at the same facility | Yes, if linking is part of a broader DLT network that meets other combination loan-grant purposes | Yes, if linking is part of a broader DLT network that meets other loan purposes.
Links between medical professionals located at the same facility | Yes, if linking is part of a broader DLT network that meets other combination loan-grant purposes | Yes, if linking is part of a broader DLT network that meets other loan purposes.
Site development or building alteration | Yes, if the activity meets other combination loan-grant purposes | Yes, if the activity meets other loan purposes.
Land or building purchase | Yes, if the activity meets other combination loan-grant purposes | Yes, if necessary to the overall project and incidental to the loan amount.
Building construction | Yes, if the activity meets other combination loan-grant purposes | Yes, if necessary to the overall project and incidental to the loan amount.
Acquiring telecommunications transmission facilities | Yes, if other telecommunications carriers will not install in a reasonable time period & at an economically viable cost to the project | Yes, if other telecommunications carriers will not install in a reasonable time period & at an economically viable cost to the project.
Salaries, wages, benefits for medical or educational personnel | No | No.
Salaries/administrative expenses of applicant or project | No | No.
Recurring project costs or operating expense | No (equipment & facility leases are eligible) | Yes, for the first two years after approval (leases are not recurring project costs).
Equipment to be owned by the LEC or other telecommunications service provider, if the provider is the applicant | Yes | Yes.
Duplicate distance learning or telemedicine services | No | No.
Any project that, for its success, depends on additional DLT financial assistance or other financial assistance that is not assured | No | No.
Application preparation costs | No | No.
Other project costs not covered in regulation | No | Yes, for the first two years of the operation.
Costs & facilities providing distance learning broadcating | No | Yes; financial assistance amount directly proportional to the distance learning portion of use.
Reimburse applicant or others for costs incurred prior to RUS' receipt of completed application | No | No.

2. Eligible Equipment & Facilities. Please see 7 CFR 1703.102 for definitions of eligible equipment, eligible facilities and telecommunications transmission facilities as used in the table above.

V. Application Review Information

A. Special considerations or preferences. 7 CFR 1703.112 directs that an RUS telecommunications borrower will receive expedited consideration and determination of a loan application or advance under the Rural Electrification Act of 1936 (7 U.S.C. 901-950aa, et seq.) if the loan funds in question are to be used in conjunction with a DLT grant, loan or combination loan-grant (See 7 CFR 1737 for loans and 7 CFR 1744 for advances).

B. Criteria. Combination loan-grant applications and loan applications are evaluated on the basis of technical, financial, economic and other criteria. Please see paragraph IV.B.6 of this notice for the items that will be evaluated for a combination loan-grant or loan application, and paragraph V.C of this notice for a brief listing of evaluation standards.

C. Combination loan-grants and loans review standards.

1. RUS evaluates applications' financial feasibility using the following information. Please see paragraph IV.B.6 of this of this notice for the items that constitute a completed combination loan-grant or loan application. Also, see 7 CFR part 1703 subpart F for combination loan-grants and 7 CFR part 1703 subpart G for loans:

a. Applicant's financial ability to compete the project;

b. Project feasibility;

c. Applicant's financial information;

d. Project sustainability;

e. Ability to repay the loan portion of a combination loan-grant, including revenue sources;

f. Collateral for which the applicant has perfected a security interest; and

g. Adequate security for a loan or the loan portion of a combination loan-grant.

2. RUS also evaluates the following project and application characteristics:

a. Services to be provided by the project.

b. Project cost.

c. Project design.

d. Rurality of the proposed service area. Please see paragraph III.B.3 of this Notice for information on determining rurality.

e. Other characteristics.

D. Combination loan-grants and loans selection process. Based on the review standards listed above and in the DLT Program regulation, RUS will process successful loan applications on a first-in, first-out basis, dependent upon the availability of funds. Please see 7 CFR 1703.135 for combination loan-grant application processing and selection; and 7 CFR 1703.145 for loan application processing and selection.

VI. Award Administration Information

A. Combination loan-grants and loans award notices.

RUS recognizes that each funded project is unique, and therefore may attach conditions to different projects' award documents.

1. RUS generally sends a letter defining the characteristics of a loan (or the loan portion of a combination loan-grant) such as the term, interest rate and any conditions on the loan. An applicant must communicate agreement with the characteristics of the loan to RUS before a loan or combination loan-grant moves into the approval process.

2. After receiving the applicant's agreement on the loan characteristics, RUS supplies an approval letter to the applicant. Loan documents (and a grant agreement, if applicable) are then sent by RUS. The applicant has 120 days to sign and return the documents, along with any additional material required by the loan or grant documents.

B. Administrative and national policy requirements. The items listed in paragraph IV.B.6 of this Notice, and the DLT Program regulation, application guides and accompanying materials implement the appropriate administrative and national policy requirements.

C. Reporting.

1. Performance reporting. All recipients of DLT financial assistance must provide annual performance activity reports to RUS until the project is complete and the funds are expended. A final performance report is also required; the final report may serve as the last annual report. The final report must include an evaluation of the success of the project in meeting DLT Program objectives. See 7 CFR 1703.107.

2. Financial reporting. All recipients of DLT financial assistance must provide an annual audit, beginning with the first year a portion of the financial assistance is expended. Audits are governed by United States Department of Agriculture audit regulations. Please see 7 CFR 1703.108.

VII. Agency Contacts

A. Web site: http://www.usda.gov/rus/telecom/dlt/dlt.htm. The RUS’ DLT Web site maintains up-to-date resources and contact information for DLT programs.

B. Phone: 202-720-0413.

C. Fax: 202-720-1051.

D. E-mail: dltinfo@usda.gov.

E. Main point of contact: Orren E. Cameron, III, Director, Advanced Services Division, Rural Utilities Service, U.S. Department of Agriculture.

Dated: January 12, 2005.
Curtis M. Anderson,
Acting Administrator, Rural Utilities Service.

[FR Doc. 05-934 Filed 1-14-05; 8:45 am]

BILLING CODE 3410-15-P